DEPARTMENT OF AGRICULTURE

Forest Service

Humboldt-Toiyabe National Forests; Santa Rosa Ranger District; Martin Basin Rangeland Management Project

AGENCY: Forest Service, USDA.

ACTION: Notice of Intent to prepare a Supplemental Environmental Impact Statement.

SUMMARY: The Santa Rosa Ranger District of the Humboldt-Toiyabe National Forest will prepare a Supplemental Environmental Impact Statement (SEIS) on a proposal to authorize continued livestock grazing on National Forest System (NFS) lands within the boundaries administered by the Santa Rosa Ranger District. The Project Area is located in Humboldt County, Nevada.

The preparation of this SEIS is needed because the Record of Decision issued on October 30, 2009 for the Martin Basin Rangeland Management Project was appealed. Following review, the decision to authorize grazing on three of the allotments in the Project Area (the Buffalo, Granite Creek, and Rebel Creek Allotments) was reversed due to inadequate analysis on the effects of domestic livestock grazing to the designated wilderness in these allotments. The supplemental analysis will provide additional analysis and disclosure of environmental effects to the designated wilderness in these allotments.

DATES: The Draft SEIS is expected to be released for public review and comment in March of 2010 and the new Final SEIS is expected to be released in July of 2010.

ADDRESSES: Send written comments to: Vernon Keller, NEPA Coordinator, Humboldt-Toiyabe National Forest, 1200 Franklin Way, Sparks, NV 89431.

FOR FURTHER INFORMATION CONTACT: For further information, mail correspondence to or contact Vernon Keller, NEPA Coordinator, Humboldt-Toiyabe National Forest, 1200 Franklin Way, Sparks, NV 89431. The telephone number is: 775-355-5356. E-mail address is: vkeller@fs.fed.us.

SUPPLEMENTARY INFORMATION:

Background

Initiation of the Martin Basin Rangeland Project began in 2002 with the original Notice of Intent published in the Federal Register on December 30, 2002 (Vol. 67, Number 250). The Draft EIS was released in May of 2004 for a 135-day comment period. The Final EIS was released in June of 2005 and a 45-day comment period was also provided at that time. The Record of Decision for this project was issued on June 2, 2006, by then Forest Supervisor Robert L. Vaught.

The Record of Decision for the Martin Basin Rangeland Project was appealed to the Intermountain Regional Forester. On September 6, 2006, the Regional Forester issued a decision on the appeal and remanded the decision back to the Humboldt-Toiyabe National Forest for additional analysis.

A Notice of Intent to prepare a Supplemental Environmental Impact Statement was published in the Federal Register on February 26, 2007 (Vol. 72, Number 37). That NOI estimated that the Draft Supplemental EIS would be released for review and comment on April 2007 and the Final Supplemental EIS would be completed by July 2007.

A Corrected Notice of Intent was published in the Federal Register on October 16, 2008 (Vol. 73, No. 201). That Corrected NOI provided notice that a new EIS was being prepared, instead of a supplement to the 2005 Final EIS. That notice also updated the estimated dates for release of the new Draft and Final EISs, and provided additional information on the Proposed Action and Possible Alternatives. The new Draft EIS was released in January of 2009 for a 45-day comment period. The Final EIS was released in November of 2009. The legal notice of the Record of Decision for this project was published on November 23, 2009, by Forest Supervisor Edward C. Monnig.

Two appeals were filed against the 2009 Record of Decision. On February 22, 2010, the portion of the decision to implement the Martin Basin Rangeland Project with the Santa Rosa Wilderness was reversed and the Forest Supervisor was instructed to complete additional analysis of the wilderness characteristics within the Santa Rosa Wilderness.

Purpose and Need for Action

As stated in Final EIS released in 2009, the purpose and need for the proposed federal action is to contribute economic value to grazing permittees in a way that sustains the health of the land and protects essential ecosystem functions and values.

Proposed Action

As outlined in the Final EIS released in 2009, the Proposed Action would authorize domestic livestock grazing on the eight allotments in the Project Area. Under this alternative, proper use criteria (utilization) would be based on the current ecological conditions (functioning, functioning-at-risk or non-functioning) within each allotment. The ecological condition of the allotments would continue to be evaluated through a long-term monitoring process. If long-term monitoring indicates the ecological condition of the allotment has changed, then the set of proper use criteria associated with that ecological condition would be applied to the allotment.

Possible Alternatives

In addition to the Proposed Action, two additional alternatives have been identified for analysis in the SEIS:

1. Current Management Alternative: Continue current grazing management.

2. No Grazing Alternative: Eliminate grazing in the Buffalo, Granite Creek, and Rebel Creek Allotments immediately.

Responsible Official

The responsible official is: Jeanne Higgins, Forest Supervisor, Humboldt-Toiyabe National Forest, 1200 Franklin Way, Sparks, NV 89431.

Nature of Decision To Be Made

Given the purpose and need, the deciding officer will decide whether or not to continue grazing on the Buffalo, Granite Creek, and Rebel Creek Allotments in the Martin Basin Rangeland Project area. If the decision is to continue grazing, then under what terms and conditions will livestock grazing be managed.

Scoping Process

The scoping period for this EIS was formally initiated on December 30, 2002 when the original Notice of Intent for this project was published in the Federal Register (Volume 67, Number 250). While no additional scoping periods are planned prior to the release of the Draft SEIS, those wishing to submit comments may do so at the address listed above for Vernon Keller, NEPA Coordinator. The Forest Service will use a mailing of information to notify interested parties of the preparation of the SEIS. Public involvement will be ongoing throughout the analysis process and at certain times public input will be specifically requested.

It is important that reviewers provide their comments at such times and in such manner that they are useful to the agency's preparation of the Environmental Impact Statement. Therefore, comments should be provided prior to the close of the comment period and should clearly articulate the reviewer's concerns and contentions.

Authority: 40 CFR 1501.7 and 1508.22; Forest Service Handbook 1909.15, Section 21.

Dated: February 26, 2010.
Jeremiah C. Ingersoll,
Acting Forest Supervisor.

[FR Doc. 2010-4747 Filed 3-8-10; 8:45 am]

BILLING CODE 3410-11-M